DEPARTMENT OF COMMERCE

National Telecommunications and Information Administration

[Docket No. 0907141137-0079-07]

RIN 0660-ZA28

Broadband Technology Opportunities Program

AGENCY: National Telecommunications and Information Administration, U.S. Department of Commerce.

ACTION: Notice announcing OMB approval of an information collection and publication of an OMB Control Number.

SUMMARY: The National Telecommunications and Information Administration (NTIA) announces that the Office of Management and Budget (OMB) has approved the collection of information contained in the Notice of Funds Availability (NOFA) for the Broadband Opportunities Program (BTOP) published on January 22, 2010.

FOR FURTHER CONTACT INFORMATION: For general inquiries regarding BTOP, contact Anthony Wilhelm, Director, BTOP, Office of Telecommunications and Information Applications, National Telecommunications and Information Administration, U.S. Department of Commerce (DOC), 1401 Constitution Avenue, NW., HCHB, Room 4887, Washington, DC 20230; Help Desk e-mail: BroadbandUSA@usda.gov, Help Desk telephone: 1-877-508-8364. Additional information regarding BTOP may be obtained at http://www.ntia.doc.gov/broadbandgrants/.

SUPPLEMENTARY INFORMATION: On January 22, 2010, NTIA published a Notice of Funds Availability (NOFA) (75 FR 3792) announcing general policy and application procedures for the Broadband Technology Opportunities Program (BTOP) established pursuant to the American Recovery and Reinvestment Act of 2009 (ARRA). In this second round of funding, NTIA will award grants in three categories of eligible projects: Comprehensive Community Infrastructure (CCI), Public Computer Centers (PCC), and Sustainable Broadband Adoption (SBA).

The application requirements for the BTOP contained in the NOFA are an information collection subject to the requirements of the Paperwork Reduction Act of 1995 (PRA) (44 U.S.C. 3501 et seq.). However, NTIA indicated in the NOFA that the information collection associated with BTOP had not yet been approved by OMB and that it would publish a subsequent notice in the Federal Register when that event occurred.

By this notice, NTIA announces that OMB approved the amendment to the information collection approved under OMB Control Number 0660-0031. The expiration date for this information collection is July 31, 2010. This collection of information was approved by OMB in accordance with the emergency processing provisions under 5 CFR 1320.13 to allow NTIA to fulfill its ARRA requirements. Notwithstanding any other provision of law, no person is required to respond to, nor shall any person be subject to a penalty for failure to comply with a collection of information subject to the Paperwork Reduction Act unless that collection displays a currently valid OMB Control Number.

Dated: February 5, 2010.
Kathy D. Smith,
Chief Counsel, National Telecommunications and Information Administration.

[FR Doc. 2010-2967 Filed 2-9-10; 8:45 am]

BILLING CODE 3510-60-P